DEPARTMENT OF HEALTH AND HUMAN SERVICES

Administration for Children and Families

Administration on Children, Youth and Families, Child Care Bureau; Early Learning Opportunities Act (ELOA) Discretionary Grants

Announcement Type: Initial.

Funding Opportunity Number: HHS-2005-ACF-ACYF-LO-0028.

CFDA Number: 93.577.

Due Date For Letter of Intent or Preapplications: Letters of Intent are due June 30, 2005.

Due Date for Applications: Applications are due July 15, 2005.

Executive Summary: The Administration for Children and Families, Administration on Children, Youth and Families, Child Care Bureau (CCB) announces the availability of funds and request for applications for its FY 2005 Early Learning Opportunities Act (ELOA) grants. Funds will be awarded to eligible Local Councils that have been designated as the Local Council for the purposes of applying for an ELOA grant, as evidenced in a letter of designation, signed by an entity of local government, an Indian Tribe, Regional Corporation, or Native Hawaiian entity.

I. Funding Opportunity Description

Priority Area 1

Early Learning Opportunities Act (ELOA) Discretionary Grants

1. Description: The Administration for Children and Families, Administration on Children, Youth and Families, Child Care Bureau (CCB) announces the availability of funds and request for applications for its FY 2005 Early Learning Opportunities Act (ELOA) grants. Grants will be awarded to Local Councils that have been designated as the Local Council for the purposes of applying for an ELOA grant, as evidenced in a letter of designation, signed by an entity of local government, an Indian Tribe, Regional Corporation, or Native Hawaiian entity.

Local Councils, whose membership must represent a cross-section of early learning programs, and those affected by early learning programs, must develop a coordinated plan for addressing early learning and related needs identified through a local needs and resources assessment. The activities funded augment and coordinate with the services already in the community including child care, health, welfare, and early intervention. To ensure the effectiveness of activities supported with ELOA funds, Local Councils must establish outcome measures and evaluation methods for each proposed ELOA activity.

Since ELOA funds are intended to support Local Councils in exploring new ways communities can come together for a common purpose with the intent of building self-sustaining partnerships, ELOA may not be used to replace Federal, State, or local funds. Applicants must demonstrate how the activities supported through ELOA will be sustained once the grant ends. Similarly, eligible prior year ELOA grantees that apply, must show how a new grant, if received, would build on and not simply continue the activities funded through an earlier ELOA grant.

ELOA funds may only be used for young children from birth to the age of mandatory school attendance in the State where the child resides. Information on the mandatory school age in each State is available at http://nces.ed.gov/programs/digest/d03/tables/dt151.asp.

A. The Child Care Bureau

The Child Care Bureau (CCB) was established in 1995 to provide leadership to efforts to enhance the quality, affordability, and supply of child care. The CCB administers the Child Care and Development Fund (CCDF), a $4.8 billion child care program that includes funding for child care subsidies and activities to improve the quality and availability of child care. CCDF was created after amendments to Administration for Children and Families (ACF) child care programs by Title VI of the Personal Responsibility and Work Opportunity Reconciliation Act of 1996 consolidated four Federal child care funding streams including the Child Care and Development Block Grant, AFDC/JOBS Child Care, Transitional Child Care, and At-Risk Child Care. With related State and Federal funding, CCDF provides more than $11 billion a year to States, Territories, and Tribes to help low-income working families access child care services.

The Bureau works closely with ACF Regional Offices, States, Territories, and Tribes to assist with, oversee, and document implementation of new policies and programs in support of State, local, and private sector administration of child care services and systems. In addition, the Bureau collaborates extensively with other offices throughout the Federal government to promote integrated, family-focused services, and coordinated child care delivery systems. In all of these activities, the Bureau seeks to enhance the quality, availability, and affordability of child care services, support children's healthy growth and development in safe child care environments, enhance parental choice and involvement in their children's care, and facilitate the linkage of child care with other community services.

B. The Early Learning Opportunities Act (Pub. L. 106-554, 20 U.S.C. 9401, et seq.)

The Early Learning Opportunities Act (ELOA) was passed by Congress to award grants to States* to enable them to increase, support, expand, and better coordinate early learning opportunities for children and their families through local community organizations. The purposes of the Act are:

• To increase the availability of voluntary programs, services, and activities that support early childhood development, increase parent effectiveness, and promote the learning readiness of young children so that they enter school ready to learn; To support parents, child care providers, and caregivers who want to incorporate early learning activities into the daily lives of young children;

• To remove barriers to the provision of an accessible system of early childhood learning programs in communities throughout the United States;

• To increase the availability and affordability of professional development activities and compensation for caregivers and child care providers; and

• To facilitate the development of community-based systems of collaborative service delivery models characterized by resource sharing, linkages between appropriate supports, and local planning for services.

*The Act provides that if the amount appropriated for this program in any fiscal year is less than $150 million, the Department of Health and Human Services (DHHS) shall award grants on a competitive basis directly to Local Councils. DHHS is administering the program under this special provision in Fiscal Year (FY) 2005.

C. Allowable Early Learning Activities and Preferred Action

In general, Local Councils may use ELOA funds to pay for developing, operating, or enhancing voluntary early learning programs that are likely to produce sustained gains in early learning. The President has identified the enhancement of early childhood literacy as a priority for this administration. Therefore, for FY 2005 grants, the Child Care Bureau will only consider for funding those Local Councils that include in their applications activities for “Enhancing Early Childhood Literacy” (see Item 1 below), AND two or more of the other allowable activities listed below (i.e., Items 2 through 8):

1. Enhancing early childhood literacy;

2. Helping parents, caregivers, child care providers, and educators increase their capacity to facilitate the development of cognitive, language comprehension, expressive language, social-emotional, and motor skills and promote learning readiness in young children;

3. Promoting effective parenting;

4. Developing linkages among early learning programs within a community and between early learning programs and health care services for young children;

5. Increasing access to early learning opportunities for young children with special needs including developmental delays, by facilitating coordination with other programs serving such young children;

6. Increasing access to existing early learning programs by expanding the days or times that the young children are served, by expanding the number of young children served, or by improving the affordability of the programs for low-income families;

7. Improving the quality of early learning programs through professional development and training activities, increased compensation, and recruitment and retention incentives for early learning providers;

8. Removing ancillary barriers to early learning, including transportation difficulties and absence of programs during nontraditional work times.

Construction and purchase of real property are not allowable activities or expenditures under this program

D. Definitions

Administrative Costs—means costs related to the overall management of the program, which do not directly relate to the provision of program services. These costs can be in both the personnel and non-personnel budget categories and include, but are not limited to: salaries of managerial and administrative staff, indirect costs, and other costs associated with administrative functions such as accounting, payroll services, or auditing.

Note: Not more than three percent of the total Federal share received by the Local Council through this announcement shall be used to pay for the “administrative costs” of the Local Council, including administrative costs of any sub-grantees and third parties in carrying out activities funded under the grant.

Budget Period—for the purposes of this announcement, budget period means the 17-month period of time for which ELOA funds are made available to a particular grantee (i.e., beginning on September 30, 2005, and ending on February 28, 2007).

Caregiver—means an individual, including a relative, neighbor, or family friend, who regularly or frequently provides care, with or without compensation, for a child for whom the individual is not the parent.

Child Care Provider—means a provider of non-residential child care services (including center-based, family-based, and in-home child care services) for compensation who or that is legally operating under State law, and in compliance with applicable State and local requirements for the provision of child care services.

Early Learning—when used with respect to a program or activity, means learning designed to facilitate the development of cognitive, language, motor and social-emotional skills for, and to promote learning readiness in, young children (see definition of Young Child below).

Early Learning Program—means a program of services or activities that helps parents, caregivers, and child care providers to incorporate early learning into the daily lives of young children; or a program that directly provides early learning to young children.

Indian Tribe—has the meaning given the term in section 4 of the Indian Self-Determination and Education Assistance Act (25 U.S.C. 450b).

Local Council—means a Local Council established or designated by a local government, Indian Tribe, Regional Corporation, or Native Hawaiian entity to serve as applicant under this announcement serving one or more localities.

Local Government—means a county, municipality, city, town, township, borough, parish, select board, council of local governments (whether or not incorporated as a non-profit corporation under State law), intra-state district, a general purpose unit of local government, and any other interstate or regional unit of local government. “Local Government” does not mean any of the 50 States, or any agency or instrumentality of a State exclusive of local governments.

Locality—means a city, county, borough, township, or area served by another general purpose unit of local government, an Indian Tribe, a Regional Corporation, or a Native Hawaiian entity.

Native Hawaiian Entity—means a private non-profit organization that serves the interests of Native Hawaiians, and is recognized by the Governor of Hawaii for the purpose of planning, conducting, or administering programs (or parts of programs) for the benefit of Native Hawaiians.

Non-Federal Share—means that portion of project costs not borne by the Federal government. Under ELOA, the minimum required Non-Federal Share is 15 percent of the total cost of the approved project.

Parent—means a biological parent, an adoptive parent, a stepparent, a foster parent, or a legal guardian of, or a person standing in loco parentis to, a child.

Program Income—means gross income earned by the grantee or subgrantee that is directly generated by a grant supported activity, or earned only as a result of the award. 45 CFR Parts 74 and 92 include similar types of earned revenue, which qualify as program income. These include but are not limited to income from fees for services performed and the use of rental property.

Project Period—for the purposes of this announcement, project period means the 17-month period starting on September 30, 2005, and ending on February 28, 2007.

Real Property—means land, including land improvements, structures and appurtenances thereto, excluding movable machinery and equipment.

Regional Corporation—means a Native Alaska Regional Corporation; an entity listed in section 419(4)(B) of the Social Security Act (42 U.S.C. 619(4)(B)).

Training—means instruction in early learning that: (a) Is required for certification under State and local laws, regulations, and policies; (b) is required to receive a nationally or State recognized credential or its equivalent; (c) is received in a postsecondary education program focused on early learning or early childhood development in which the individual is enrolled; or (d) is provided, certified, or sponsored by an organization that is recognized for its expertise in promoting early learning or early childhood development.

Young Child—for purposes of this program, means any child from birth to the age of mandatory school attendance in the State where the child resides. Information on the compulsory school age in each State is available at http://nces.ed.gov/programs/digest/d03/tables/dt151.asp.

E. Protections

• Participation Not Required: No person, including a parent, shall be required to participate in any program of early childhood education, early learning, parent education, or developmental screening pursuant to the provisions of the Early Learning Opportunities Act.

• Rights of Parents: Nothing in the Early Learning Opportunities Act shall be construed to affect the rights of parents otherwise established in Federal, State, or local law.

• Particular Methods or Settings: No entity that receives funds under the Early Learning Opportunities Act shall be required to provide services under this announcement through a particular instructional method or in a particular instructional setting to comply with the ELOA.

• Nonduplication: No funds provided under this title shall be used to carry out an activity funded under another provision of law providing for Federal child care or early learning programs, unless an expansion of such activity is identified in the local needs assessment and performance goals under this announcement.

II. Award Information

Funding Instrument Type: Grant.

Anticipated Total Priority Area Funding: $35,712,000.

Anticipated Number of Awards: 30 to 55.

Ceiling on Amount of Individual Awards per project period: $1,000,000.

Floor on Amount of Individual Awards per project period: $250,000.

Average Projected Award Amount: $700,000.

Length of Project Periods: 17 months.

III. Eligibility Information

1. Eligible Applicants

Others (See Additional Information on Eligibility below.)

Additional Information on Eligibility

Required Letter(s) of Designation (Designation of Local Council by Local Government Entity)

An eligible applicant for an FY 2005 ELOA grant must be a Local Council designated, in writing, by a local government entity(ies) (or Indian Tribe, Regional Corporation, or Native Hawaiian entity) as the “Local Council” to serve one or more localities for the purpose of applying for an ELOA discretionary grant. The applicant must include a “Letter of Designation” in its application from an appropriate local government entity(ies) specifically designating it as the Local Council for the purpose of applying for an ELOA discretionary grant.

Because the structure and authority of local governments differ greatly across the nation, and even within a State, it is the responsibility of the applicant to determine and identify the appropriate entity(ies) of local government to designate them as the Local Council for an ELOA grant application. The local government entity(ies) making the designation must also clearly explain in its letter the source/nature of its authority to make such a designation on behalf of the locality(ies) it represents. Examples of officials that may be authorized to sign the Letter of Designation on behalf of the local government entity(ies) include but are not limited to: mayors, city managers, city councils, county boards of supervisors, county boards of commissioners, county administrators, Tribal Councils, boards of municipal officers, etc.

Appendices A and B are sample Letters of Designation that meet this purpose. Applicants are strongly encouraged to utilize the exact language and format provided in the sample Letters of Designation in order to meet this statutory eligibility requirement. Appendix A is a sample Letter of Designation for a Local Council when the services of a Fiscal Agent will not be used. Appendix B is a sample Letter of Designation for a Local Council that will use a Fiscal Agent.

In addition, applicants (i.e., Local Councils) serving multiple localities (e.g., cities, townships, boroughs, counties) are strongly encouraged to obtain a Letter of Designation from an appropriate entity of local government in each of the localities to be served.

Any applicant that fails to provide the required Letter(s) of Designation (Designation of Local Council by Local Government Entity(ies)) in its application will be considered non-responsive and will not be considered for funding under this announcement.

Required Statutory Membership Composition of a Local Council

To be eligible to receive a grant award, Local Councils must provide clear evidence in their application that their membership meets all of the following statutory composition requirements:

A. Representatives of local agencies that will be directly affected by early learning programs assisted under the ELOA;

B. Parents;

C. Other individuals concerned with early learning issues in the locality, such as representatives of entities providing elementary education, child care resource and referral services, early learning opportunities, child care, and health services; and

D. Other key community leaders, such as representatives of the local Chamber of Commerce or service organizations.

Local Councils must assign each of their members to one of the four categories above. For the purposes of Local Council membership, a single individual may not represent more than one category. Applications from Local Councils whose membership does not meet the above statutory composition requirements will be considered non-responsive and will not be considered for funding under this announcement. Local Councils are encouraged to include representatives from a diversity of perspectives including the involvement of faith-based and community organizations and providers.

Note: Appendix C is a sample roster for a Local Council. Please note that each member is clearly labeled with a letter, A—D. These four letters correspond with the four required statutory categories. To be considered eligible, Local Councils must include representatives of each of the four categories listed above (i.e., “A,” “B,” “C,” and “D”) at the time of submission of the application. Members of Local Councils that are identified with categories other than the four above will not be considered as meeting the statutory eligibility requirements for the composition of the Local Council.

Designation of a Fiscal Agent by the Local Council

A Local Council may enter into an agreement with an entity (including a faith-based or community organization) that has a demonstrated capacity for administering grants that is affected by, or concerned with, early learning issues, including the State, to serve as fiscal agent for the administration of grant funds received by the Local Council under ELOA. However, the Local Council, if selected to receive a grant, must be responsible for ensuring compliance with the activities and terms of the grant. Local Councils (and their Fiscal Agents) must be able to demonstrate organizational and fiscal capabilities to manage the grant.

If a Local Council uses a Fiscal Agent, the Fiscal Agent's name and Employer Identification Number (EIN) must also be included in the “Letter of Designation” (see Appendix B)

Geographic Location and Locality(ies) To Be Served

At the beginning of the project descriptions, applicants must describe the precise location of the project and boundaries of the area to be served including the following: the State, county(ies), and specific locality(ies) (e.g., city, town, township, borough, parish, or area served by another general purpose unit of local government, Indian Tribe, Alaska Native Regional Corporation, or Native Hawaiian entity).

In general, Local Councils in each of the 50 States of the United States, the District of Columbia, and the Commonwealth of Puerto Rico are eligible to apply under this announcement.

Set-Aside

The Act (Pub. L. 106-554, Section 809) provides that the Secretary shall reserve a portion of each year's total ELOA appropriation for Indian Tribes, Regional Corporations, and Native Hawaiian entities. ACF anticipates competitively awarding funds to at least one Local Council designated by an Indian Tribe and one Local Council designated by an Alaska Native Regional Corporation or Native Hawaiian entity, subject to receipt of applications meeting the requirements of the Act as reflected in this announcement. ACF is setting aside no less than one percent of the FY 2005 ELOA appropriation for these purposes.

2. Cost Sharing/Matching

Yes.

Grantees are required to meet a non-Federal share of the project costs, in accordance with Pub. L. 106-554, Section 807 (b)(2). Grantees must provide at least 15 percent of the total approved cost of the project. The total approved cost of the project is the sum of the ACF share and the non-Federal share. The non-Federal share may be met by cash or in-kind contributions, although applicants are encouraged to meet their match requirements through cash contributions. For example, in order to meet the match requirements, a project with a total approved cost of $823,529, requesting $700,000 in ACF funds, must provide a non-Federal share of at least $123,529 (15 percent of total approved project cost of $823,529). Grantees will be held accountable for commitments of non-federal resources even if over the amount of the required match. Failure to provide the amount will result in disallowance of Federal funds. Lack of supporting documentation at the time of application will not impact the responsiveness of the application for competitive review.

Applicants are discouraged from providing non-Federal share resources in excess of the required 15 percent. Applicants that provide more than the required 15 percent will not receive any additional credit or points under the evaluation criteria.

The required 15 percent non-Federal share may be contributed in cash or in-kind, fairly evaluated, including facilities, equipment, or services, which may be provided from State or local public sources, or through donations from private entities. For the purposes of this paragraph, the term “facilities” includes the use of facilities, but, the term “equipment” means donated equipment and not the use of equipment.

Cost sharing/Matching is not an evaluation and/or preference criterion.

Please refer to Section IV for any pre-award requirements.

3. Other

• All applicants are required to include activities for “enhancing early childhood literacy” in their projects.

• “Letter(s) of Support” for the Local Council from a local government entity(ies) will not be considered as meeting the eligibility requirement for a “Letter of Designation.”

• Applications from Indian Tribes and Regional Corporations must include a tribal resolution from the governing body of the Tribe(s) or Regional Corporation(s), designating a Local Council for the purpose of the ELOA grant. Note: The Tribal Council would not be considered a Local Council for ELOA unless its membership also meets the composition requirements (see Composition of Local Council.

• “State” governments do not meet the definition of “Local Government” (see Section I. D). Therefore, a Letter(s) of Designation from an entity(ies) of State Government will not be considered as meeting these eligibility requirements.

• Local Councils that were formed prior to the date of enactment of the ELOA and that meet the membership requirements below will be considered eligible for the purposes of applying for an ELOA grant if a Letter(s) of Designation from an appropriate entity(ies) of local government is submitted as part of the application. In localities where a Local Council does not exist, one may be formed and designated for the purposes of applying for an ELOA grant.

• FY 2003 ELOA grantees whose grant project period ends on or before September 29, 2005 are eligible to apply for a FY 2005 grant under this program announcement. Note: The project period for all grantees is noted in Block 9 of their “Financial Assistance Award” document.

• To be considered eligible for a new award, current ELOA grantees may not have a pending request to extend their existing ELOA grant project period beyond September 29, 2005.

• The 40 Local Councils (and the localities served by those Local Councils) that received FY 2004 ELOA grants will not be considered for FY 2005 awards under this announcement.

• Only Local Councils, not individuals or individual organizations/agencies, are eligible to apply under this announcement.

All applicants must have a Dun & Bradstreet number. On June 27, 2003 the Office of Management and Budget published in the Federal Register a new Federal policy applicable to all Federal grant applicants. The policy requires Federal grant applicants to provide a Dun & Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status. Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

Disqualification Factors: Applications that exceed the $1,000,000 ceiling amount will be considered non-responsive and will not be eligible for funding under this announcement.

Any application that fails to satisfy the deadline requirements referenced in Section IV.3 will be considered non-responsive and will not be considered for funding under this announcement.

Any applicant that fails to provide the required Letter(s) of Designation (Designation of Local Council by Local Government Entity(ies)) in its application will be considered non-responsive and will not be considered for funding under this announcement. (See Section III.1. Additional Information on Eligibility and Appendices A and B).

Applications from Local Councils whose membership do not meet the statutory composition requirements will be considered non-responsive and will not be considered for funding under this announcement. (See Section III.1. Additional Information on Eligibility and Appendix C).

IV. Application and Submission Information

1. Address To Request Application Package

ACYF Operations, The Dixon Center, Inc, ELOA/CCB, 118 Q Street NE., Washington, DC 20002-2132, Phone: 866-796-1591, E-mail: CCB@dixongroup.com.

2. Content and Form of Application Submission

Applicants must submit one signed original and two copies of the application, including all attachments, to the application receipt point specified above. The original copy of the application must have original signatures, signed in blue ink. The original must be stapled (back and front) in the upper left corner. Rubber bands may be used to secure the pages of the two copies. The original application and the two copies must be submitted in a single package. Applicants have the option of omitting from the application copies (not the original) specific salary rates or amounts for individuals specified in the application budget.

Each application will be duplicated, therefore, please do not use or include colored paper, colored ink, separate covers, binders, clips, tabs, plastic inserts, over-sized paper, videotapes, or any other items that cannot be easily duplicated on a photocopy machine with an automatic feed. Do not bind, clip, staple, or fasten in any way separate subsections of the application, including the supporting documentation. Applicants are advised that a copy (not the original) of the application as submitted will be reproduced by the Federal government for review by the panel of evaluators.

Letters of Intent: Applicants are strongly encouraged to notify Ms. Taryonka Reid at the Child Care Bureau by fax (202-690-5600) by June 30, 2005. Your fax should include the following information: number and title of this announcement (required); the name and address of the Local Council (required) and Fiscal Agent (if known); and your contact person's name, phone number, fax number, and email address.

Letter of Intent information will be used to determine the number of expert reviewers needed to evaluate applications and to update the mailing list for future program announcements. Do not include a description of your proposed project. Failure to submit a Letter of Intent will not impact eligibility to submit an application and will not disqualify an application from competitive review based on non-responsiveness.

A complete application consists of the following items in the order listed:

Application for Federal Assistance (Standard Form 424, Rev. 9-2003). Follow the instructions on the back of the form. In Item 5 on the SF-424, enter the name of the applicant [Local Council]. However, if the Local Council is not incorporated or does not have an Employer Identification Number (EIN) issued by the Internal Revenue Service, the name of its fiscal agent must be entered followed by “on behalf of the [name of Local Council]”. For example: Caring County Community Services on behalf of the Early Childhood Alliance Local Council. Enter the EIN of the Local Council, or if applicable, its Fiscal Agent, in Item 6. The EIN entered in Item 6 must be the number assigned to the entity identified in Item 5. In Item 8 on the SF-424, check “New.” In Item 10, clearly identify the Catalog of Federal Domestic Assistance program title and number (i.e., Early Learning Opportunities Act, 93.577). A signature on the application constitutes an assurance that the applicant will comply with the relevant Departmental regulations contained in 45 CFR Part 74 or Part 92. The SF-424 must be signed by an individual authorized to act for the Local Council (i.e., Chair of the Local Council) and to assume responsibility for the obligations imposed by terms and conditions of the grant award.

Budget Information Non-Construction Programs (Standard Form 424A). Follow the instructions on the back of the form.

Assurances Non-Construction Programs (Standard Form 424B). Form must be signed by a duly authorized representative of the applicant Local Council.

Certification Regarding Environmental Tobacco Smoke. By signing and submitting the application, applicants are providing this certification and need not mail back the certification with the application.

Certification Regarding Lobbying. Applicants must include an executed Certification Regarding Lobbying when applying for an award in excess of $100,000.

Cover Letter. Applicants must include a Cover Letter that includes the program announcement number and contact information for the applicant. The letter must be signed by the Chair of the Local Council to acknowledge responsibility for the obligations imposed by terms and conditions of the grant award.

Required Letter of Designation for the Local Council. Applicants must include a signed Letter(s) of Designation for the Local Council from a local government entity(ies) that explains its authority to make such a designation and includes the required information on the membership composition of the Local Council. (See Section III.1. Additional Information on Eligibility and Appendices A and B)

Note: “Letter(s) of Support” for the Local Council from a local government entity(ies) will not be considered as meeting the requirements for a Letter of Designation. (See Section I.D.)

Required Statutory Composition of the Local Council. Please see Section III.1. and Appendix C, which is a sample roster of a Local Council with each member's role identified only as A, B, C, or D; no other codes meet the statutory composition requirements.

Tribal Resolution (if applicable). Fully-executed Tribal Resolution including: resolution number, date, voting information, and authorized signatures.

Table of Contents

A Project Description Summary/Abstract (one page maximum). Clearly identify this page with the applicant's name (Local Council) as shown in Item 5 on the SF-424 (e.g., Caring County Community Services on behalf of the Early Childhood Alliance Local Council), identify the title of the proposed project as shown in Item 11 (e.g., Building Resources for Early Learning Opportunities in Caring County), and the service area as shown in Item 12 of the SF-424 (e.g., Caring County). The Project Description Summary/Abstract must not exceed 300 words. The first paragraph must describe the precise location of the project and the boundaries of the area to be served including the following: The State, county(ies), specific locality(ies) (e.g., city, county, borough, township, parish, etc.), and/or region(s). Care should be taken to produce a Project Summary/Abstract that accurately and concisely reflects the proposed project. It should briefly describe the objectives of the project, the approach to be used, and the results and benefits expected. The Project Summary/Abstract must also clearly state which of the eight allowable ELOA activities are included in the project.

Note: All applicants are required to include activities for “enhancing early childhood literacy” in their projects.

The Project Narrative. The applicant is strongly encouraged to use the evaluation criteria to organize its response. Specific information should be provided that addresses all components of each criterion. Local Councils receiving assistance under the ELOA shall ensure that programs, services, and activities assisted under this program, which customarily require a payment for such programs, services, or activities, adjust the cost of such programs, services, and activities provided to the individual or the individual's child based on the individual's ability to pay.

It is in the applicant's best interest to ensure that the project description is easy to read, logically developed in accordance with the evaluation criteria, and adheres to recommended page limitations. In addition, the applicant should be mindful of the importance of preparing and submitting applications using language, terms, concepts, and descriptions that are generally known to the field of early learning as defined under this announcement. The pages of the project description must be double-spaced, printed in black only, printed on only one side, with no less than one-inch margins, and numbered. Applicants are strongly encouraged to limit this portion of their application to no more than 100 pages.

Appendices. The recommended maximum number of pages for supporting documentation is 50 numbered pages. These documents might include excerpts from the needs and resources assessment, resumes/job descriptions, photocopies of news clippings, documents related to the involvement and participation of the Local Council, and evidence of its efforts to coordinate early care and education services at the local level including letters of support and/or third-party agreements.

You may submit your application to us in either electronic or paper format. To submit an application electronically, please use the www.Grants.gov/Apply site. If you use Grants.gov, you will be able to download a copy of the application package, complete it off-line, and then upload and submit the application via the Grants.gov site. ACF will not accept grant applications via email or facsimile transmission.

Please note the following if you plan to submit your application electronically via Grants.gov:

• Electronic submission is voluntary, but strongly encouraged.

• When you enter the Grants.gov site, you will find information about submitting an application electronically through the site, as well as the hours of operation. We strongly recommend that you do not wait until the application deadline date to begin the application process through Grants.gov.

• We recommend you visit Grants.gov at least 30 days prior to filing your application to fully understand the process and requirements. We encourage applicants who submit electronically to submit well before the closing date and time so that if difficulties are encountered an applicant can still send in a hard copy overnight. If you encounter difficulties, please contact the Grants.gov Help Desk at 1-800-518-4276 to report the problem and obtain assistance with the system.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov

• You must search for the downloadable application package by the CFDA number.

Applicants that are submitting their application in paper format should submit an original and two copies of the complete application. The original and each of the two copies must include all required forms, certifications, assurances, and appendices, be signed by an authorized representative, have original signatures, and be submitted unbound.

Private, non-profit organizations are encouraged to submit with their applications the survey located under “Grant Related Documents and Forms,” “Survey for Private, Non-Profit Grant Applicants,” titled, “Survey on Ensuring Equal Opportunity for Applicants,” at: www.acf.hhs.gov/programs/ofs/forms.htm.

Standard Forms and Certifications: The project description should include all the information requirements described in the specific evaluation criteria outlined in the program announcement under Section V Application Review Information. In addition to the project description, the applicant needs to complete all the standard forms required for making applications for awards under this announcement.

Applicants seeking financial assistance under this announcement must file the Standard Form (SF) 424, Application for Federal Assistance; SF-424A, Budget Information—Non-Construction Programs; SF-424B, Assurances—Non-Construction Programs. The forms may be reproduced for use in submitting applications. Applicants must sign and return the standard forms with their application.

Applicants must furnish prior to award an executed copy of the Standard Form LLL, Certification Regarding Lobbying, when applying for an award in excess of $100,000. Applicants who have used non-Federal funds for lobbying activities in connection with receiving assistance under this announcement shall complete a disclosure form, if applicable, with their applications. Applicants must sign and return the certification with their application.

Applicants must also understand they will be held accountable for the smoking prohibition included within P.L. 103-227, Title XII Environmental Tobacco Smoke (also known as the PRO-KIDS Act of 1994). A copy of the Federal Register notice which implements the smoking prohibition is included with the forms. By signing and submitting the application, applicants are providing the certification and need not mail back the certification with the application.

Applicants must make the appropriate certification of their compliance with all Federal statutes relating to nondiscrimination. By signing and submitting the applications, applicants are providing the certification and need not mail back the certification form. Complete the standard forms and the associated certifications and assurances based on the instructions on the forms. The forms and certifications may be found at: http://www.acf.hhs.gov/programs/ofs/forms.htm.

Please see Section V.1. Criteria, for instructions on preparing the full project description.

3. Submission Dates and Times

Letters of Intent Due Date: June 30, 2005.

Application Due Date: July 15, 2005.

Explanation of Due Dates: The closing date for submission of applications is referenced above. Mailed applications postmarked after the closing date will be classified as late.

Deadline: Mailed applications shall be considered as meeting an announced deadline if they are either received on or before the deadline date or sent on or before the deadline date and received by ACF in time for the independent review referenced in Section IV.6.

Applicants must ensure that a legibly dated U.S. Postal Service postmark or a legibly dated, machine produced postmark of a commercial mail service is affixed to the envelope/package containing the application(s). To be acceptable as a proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications hand carried by applicants, applicant couriers, or by other representatives of the applicant shall be considered as meeting an announced deadline if they are received on or before the deadline date, between the hours of 8:00 a.m. and 4:30 p.m. ET, at the address referenced in Section IV.6., between Monday and Friday (excluding Federal holidays). Applicants are cautioned that express/overnight mail services do not always deliver as agreed.

ACF cannot accommodate transmission of applications by fax. Therefore, applications transmitted to ACF by fax will not be accepted regardless of date or time of submission and time of receipt.

Late applications: Applications which do not meet the criteria above are considered late applications. ACF shall notify each late applicant that its application will not be considered in the current competition.

Extension of deadlines: ACF may extend application deadlines when circumstances such as acts of God (floods, hurricanes, etc.) occur, or when there are widespread disruptions of mail service, or in other rare cases. Determination to extend or waive deadline requirements rests with the Chief Grants Management Officer.

Receipt acknowledgement for application packages will be provided to applicants who submit their package via mail, courier services, or by hand delivery. However, applicants will receive an electronic acknowledgement for applications that are submitted via http://www.Grants.gov.

Other: For the purposes of this announcement, please note that all references to “Letters of Intent due dates” and “Application due dates” refer to a postmark deadline.

Checklist: You may use the checklist below as a guide when preparing your application package.

What to submit | Required content | Required form or format | When to submit
Letter of Intent | See Section IV.2 | Found in Section IV.2 | June 30, 2005.
Table of Contents | See Section IV.2 | Found in Section IV.2 | By application due date.
Project Abstract | See Sections IV.2 and V | Found in Sections IV.2 and V | By application due date.
Project Narrative | See Sections IV.2 and V | Found in Sections IV.2 and V | By application due date.
SF-424 | See Section IV.2 | See http://www.acf.hhs.gov/programs/ofs/forms.htm | By application due date.
SF-424A | See Section IV.2 | See http://www.acf.hhs.gov/programs/ofs/forms.htm | By application due date.
Assurances | See Section IV.2 | See http://www.acf.hhs.gov/programs/ofs/forms.htm | By application due date.
Support Letters | See Section V | Found in Section V | By application due date.
Non-Federal Commitment Letters | See Section V | Found in Section V | By application due date.
Proof of Non-Profit Status | See Section III.3 | See http://www.acf.hhs.gov/programs/ofs/forms.htm | By date of award.
Letter of Designation for the Local Council (and Fiscal Agent, if appropriate) from an entity(ies) of local government | See Section III.1. and Appendices A & B | Appendix A must be used by Local Councils NOT using a Fiscal Agent Appendix B must be used by Local Councils using a Fiscal Agent | By application due date.
Composition of Local Council | See Section III.1. and Appendix C | Found in Section III.1. for eligibility requirements and Appendix C for appropriate format | By application due date.
Tribal Resolution, if applicable | See Section IV.2 | Found in Section IV | By application due date.
SF-LLL Certification Regarding Lobbying | See Section IV.2 | See http://www.acf.hhs.gov/programs/ofs/forms.htm | By date of award.
Certification Regarding Environmental Tobacco Smoke | See Section IV.2 | See http://www.acf.hhs.gov/programs/ofs/forms.htm | By date of award.

Additional Forms: Private, non-profit organizations are encouraged to submit with their applications the survey located under “Grant Related Documents and Forms,” “Survey for Private, Non-Profit Grant Applicants,” titled, “Survey on Ensuring Equal Opportunity for Applicants,” at: http://www.acf.hhs.gov/programs/ofs/forms.htm.

What to submit | Required content | Location | When to submit
Survey for Private, Non-Profit Grant Applicants | See form | May be found on http://www.acf.hhs.gov/programs/ofs/forms.htm | By application due date.

4. Intergovernmental Review

This program is not subject to Executive Order 12372, “Intergovernmental Review of Federal Programs,” or 45 CFR part 100, “Intergovernmental Review of Department of Health and Human Services Programs and Activities.

5. Funding Restrictions

Grant awards will not allow reimbursement of pre-award costs. Construction and purchase of real property are not allowable activities or expenditures under this program.

Not more than three percent of the total Federal share received by the Local Council through this announcement shall be used to pay for the administrative costs of the Local Council, including the administrative costs of any of its sub-grantees and third parties, in carrying out activities funded under the grant.

Local Councils receiving assistance under the ELOA shall ensure that programs, services, and activities assisted under this program, which customarily require a payment for such programs, services, or activities, adjust the cost of such programs, services, and activities provided to the individual or the individual's child based on the individual's ability to pay.

6. Other Submission Requirements

Submission by Mail: An applicant must provide an original application with all attachments, signed by an authorized representative and two copies. The application must be postmarked to the address below on or before the closing date. Applications should be mailed to: ACYF Operations Center, c/o The Dixon Group, Inc., ELOA/CCB, 118 Q Street, NE., Washington, DC 20002-2132.

Hand Delivery: An applicant must provide an original application with all attachments signed by an authorized representative and two copies. The application must be received at the address below by 4:30 p.m. eastern time on or before the closing date. Applications that are hand delivered will be accepted between the hours of 8 a.m. to 4:30 p.m. eastern time, Monday through Friday. Applications should be delivered to: c/o The Dixon Group, Inc., ELOA/CCB, 118 Q Street, NE., Washington, DC 20002-2132, Attention: ACYF Operations Center.

Electronic Submission: http://www.Grants.gov. Please see section IV. 2 Content and Form of Application Submission, for guidelines and requirements when submitting applications electronically.

V. Application Review Information

The Paperwork Reduction Act of 1995 (Pub. L. 104-13)

Public reporting burden for this collection of information is estimated to average 25 hours per response, including the time for reviewing instructions, gathering and maintaining the data needed and reviewing the collection information.

The project description is approved under OMB control number 0970-0139 which expires 4/30/2007.

An agency may not conduct or sponsor, and a person is not required to respond to, a collection of information unless it displays a currently valid OMB control number.

1. Criteria

Purpose

The project description provides a major means by which an application is evaluated and ranked to compete with other applications for available assistance. The project description should be concise and complete and should address the activity for which Federal funds are being requested. Supporting documents should be included where they can present information clearly and succinctly. In preparing your project description, information responsive to each of the requested evaluation criteria must be provided. Awarding offices use this and other information in making their funding recommendations. It is important, therefore, that this information be included in the application in a manner that is clear and complete.

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

For example, explain how your proposed project will achieve the specific goals and objectives you have set; specify the number of children and families to be served, and how the services to be provided will be funded consistent with the local needs and resources assessment. Or, explain how the expected results will benefit the population to be served in meeting its needs for early learning services and activities. What benefits will the families, children, and child care providers derive from these services? How will the services help them? What lessons will be learned which might help other agencies and organizations that are addressing the needs of a similar client population?

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. For example, for any project that will include informal caregivers, including friends, family and in-home child care providers, or caregivers who are somewhat isolated, such as child care providers who operate alone or in rural areas, please describe the means by which training and technical assistance will be made available to such informal and/or isolated caregivers and quality child care will be supported/assured. The Child Care Bureau is interested in: Promoting the involvement of faith-based and community-based providers in their projects; incorporating strategies and activities that involve fathers and strengthen families; and encouraging the appropriate use of innovative approaches, learning techniques, and other uses of technology, to meet the needs of young children, child care providers, and parents.

When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the conduct of the project and the results of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Geographic Location

Describe the precise location of the project and boundaries of the area to be served by the proposed project. Maps or other graphic aids may be attached.

Additional Information

Following are requests for additional information that need to be included in the application:

Staff and Position Data

Provide a biographical sketch and job description for each key person appointed. Job descriptions for each vacant key position should be included as well. As new key staff is appointed, biographical sketches will also be required.

Plan for Project Continuance Beyond Grant Support

Provide a plan for securing resources and continuing project activities after Federal assistance has ended.

Third-Party Agreements

Provide written and signed agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non-Federal resources” are all other Federal and non-Federal resources. It is suggested that budget amounts and computations be presented in a columnar format: First column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application so the applicant is given credit in the review process. A detailed budget must be prepared for each funding source.

Evaluation Criteria: The following evaluation criteria appear in weighted descending order. The corresponding score values indicate the relative importance that ACF places on each evaluation criterion, however applicants need not develop their applications precisely according to the order presented. Application components may be organized such that a reviewer will be able to follow a seamless and logical flow of information, i.e., from a broad overview of the project to more detailed information about how it will be conducted.

In considering how applicants will carry out the responsibilities addressed under this announcement, competing applications for financial assistance will be reviewed and evaluated against the following criteria:

Objectives and Need for Assistance 25 Points

Note: Applicant means the Local Council.

1. The extent to which the applicant demonstrates: (a) The need for assistance for early learning opportunities including identification and discussion of its needs and resources assessment concerning early learning services; and (b) the relevancy of the results as the basis for determining its objectives and need for assistance.

2. The extent to which the applicant describes: (a) The context of the project, including the characteristics of the community, magnitude and severity of the problem; (b) the needs to be addressed; and (c) includes relevant data from the needs and resources assessment.

3. The extent to which the applicant: (a) defines the project's goals and specific measurable objectives; (b) describes how its goals and objectives are linked together; and (c) explains how implementation will fulfill the purposes of the ELOA.

4. The extent to which the applicant demonstrates a thorough understanding of the importance of early learning services and activities that help parents, caregivers, and child care providers incorporate early learning into the daily lives of young children, as well as programs that directly provide early learning to young children.

5. The extent to which the applicant demonstrates that the project: (a) Expands and enhances activities; maximizes the use of resources through collaboration with other early learning programs; (b) provides continuity of services for young children across the age spectrum; and (c) helps parents and other caregivers promote early learning with their young children.

6. For eligible prior year ELOA grantees, the extent to which the applicant demonstrates that the project builds on, and does not simply continue the activities funded through an earlier ELOA grant.

Approach 20 Points

Note: Applicant means the Local Council.

1. The extent to which the applicant presents an approach that: (a) Reflects an understanding of the characteristics, needs, and services currently available to the target population; (b) is based on current theory, research, and/or best practices; (c) is appropriate and feasible; (d) can be reliably evaluated; (e) could be replicated, if successful; and (f) does not use ELOA funds to replace Federal, State, or local funds.

2. The extent to which the applicant includes: (a) A detailed plan that describes the sequence and timing of the major activities, tasks and subtasks, important milestones, and reports; and (b) projections for the accomplishment of each function or activity, including the number of people to be served. When accomplishments cannot be quantified by activity or function, the extent to which the accomplishments are listed in chronological order to show the schedule of accomplishments and target dates.

3. The extent to which the applicant: (a) Specifies who will conduct the activities under each objective; and (b) describes how subcontractors will be chosen and held accountable for carrying out activities in compliance with this application and the terms and conditions of the grant.

4. The extent to which the applicant describes how actual and perceived conflict of interest will be avoided if members of the Local Council are also direct service providers and potential recipients of ELOA funds.

5. The extent to which the applicant describes how programs, services, and activities will be provided based on the family's ability to pay (for those services that customarily require a payment).

6. The extent to which the applicant describes how the project will form collaborations among local early learning, social service, educational providers (including faith-based and community organizations) to maximize resources and concentrate efforts on areas of greatest need.

7. The extent to which the applicant describes its work with local educational agencies to identify cognitive, social-emotional, and motor developmental abilities, which are necessary to support children's readiness for school.

8. The extent to which the applicant's programs, services, and activities assisted under ELOA will represent developmentally appropriate steps toward the acquisition of those abilities.

9. The extent to which the applicant's programs, services, and activities assisted under ELOA provide benefits for children cared for in their own homes as well as children placed in the care of others.

10. The extent to which the applicant's plan: (a) Describes how the project will be structured and managed including how Local Council members will be actively involved in ongoing management; (b) defines the procedures to be used to determine whether the project is being conducted in a manner consistent with the work plan; (c) lists organizations, cooperating entities, consultants, or other key individuals who will work on the project along with a short description of the nature of their effort or contribution to the project; (d) discusses the impact of the project's various activities on the project's effectiveness including factors that may affect project implementation or outcomes and presents realistic strategies for resolution of these difficulties; and (e) describes how unanticipated problems will be resolved to ensure that the project will be completed on time and with a high degree of quality.

Results or Benefits Expected 15 Points

Note: Applicant means the Local Council.

1. The extent to which the applicant: (a) Specifies the number of children and families to be served; and (b) how the services to be provided and funded are consistent with the results of the needs and resources assessment.

2. The extent to which the applicant explains how the expected results will benefit the population to be served in meeting its needs for early learning services and activities.

3. The extent to which the applicant demonstrates the completion of the proposed objectives will result in specific, measurable results.

Staff and Position Data 10 Points

Note: Applicant means the Local Council.

1. The extent to which the applicant provides information and evidence of its management and administrative structure.

2. The extent to which the applicant: (a) Demonstrates its staff and organizational experience particularly in areas of facilitating needs and resources assessments and collaborative activities as they relate to early childhood services; (b) documents its experience in facilitating such activities and the length of time the applicant has been involved in these activities; and (c) clearly shows the successful management of projects of similar scope by the organization, and/or by the individuals designated to manage the project.

3. The extent to which the applicant: (a) Provides position descriptions and/or resumes of key personnel, including those of consultants, which clearly relate to the personnel staffing required to achieve the ELOA project objectives and the proposed budget; and (b) provides position descriptions and resumes that clearly describe the qualifications, any specialized skills, and duties for each position necessary for overall quality implementation of the project.

4. The extent to which the applicant: (a) Describes its agency including the types, quantities, and costs of services it provides; and (b) discusses the role of other organizations that will be involved in providing direct services to children and families through this grant.

5. The extent to which the applicant provides information about itself and the fiscal agent, if applicable, including: (a) Its management and administrative structure; (b) its qualifications; (c) its relationship to the Local Council; and (d) demonstrates that it has sufficient fiscal and accounting capacity to ensure prudent use, proper disbursement, and accurate accounting of funds.

6. The extent to which the applicant provides organizational charts for the Local Council, its members, and any third party, including a list of all sites, addresses, phone numbers, and staff contacts and titles. Note: These organizational charts are not to be confused with the information required for applicants to provide regarding the statutory membership composition of the Local Council. (See Section III.1. Eligibility and Appendix C).

7. The extent to which the applicant demonstrates active participation of the entire Local Council in the development of its application and the project, including a description of the ongoing role of the Local Council in the implementation of the project, and methods for documenting its participation (e.g., minutes of council meetings, council resolutions, newspaper articles, and community surveys).

8. The extent to which the applicant includes third-party agreements with cooperating entities, which: (a) Detail the scope of work to be performed; (b) work schedules, remuneration; and (c) any other terms and conditions that structure or define the relationship. Information about new agreements that will be executed with subgrantees, contractors, or other cooperating entities should also be included. If no written agreements exist, sample/draft agreements may be submitted.

9. The extent to which the applicant demonstrates support for the project from: (a) Parents; (b) the community at-large; and (c) other key leaders and stakeholders.

Plan for Project Continuance Beyond Grant Support 10 Points

Note: Applicant means the Local Council.

1. The extent to which the applicant describes a feasible plan for securing resources and continuing project activities, if applicable, after Federal assistance has ceased.

2. The extent to which the applicant demonstrates its understanding that ACF is interested in funding projects that will be completed, self-sustaining, or financed by other than ELOA funds at the end of the project period.

Budget and Budget Justification 10 Points

Note: Applicant means the Local Council.

1. The extent to which the applicant demonstrates that: (a) The funds requested will be used for early learning services that are allowed under this announcement; and (b) the discussion refers to:

(1) The budget information presented on Standard Forms 424 and 424A and the applicant's budget justification and

(2) The results or benefits identified under the Results or Benefits Expected criterion above.

2. The extent to which the project's costs are: (a) Reasonable in view of the activities to be carried out; (b) the funds are appropriately allocated across component areas; and (c) that the budget is sufficient to accomplish the objectives.

3. The extent to which the applicant's budget narrative provides: (a) Detailed calculations that describe how the categorical costs are derived; (b) detailed calculations including estimation methods, quantities, unit costs, and other similar quantitative detail sufficient for the calculation to be duplicated; and (c) costs are specified for the entire 17-month ELOA project period, not separated into 12-month and five-month budget periods.

4. The extent to which the applicant has allocated sufficient funds in the project budget to implement the proposed evaluation activities.

5. The extent to which funds are allocated to allow two representatives from the Local Council to attend one two-day grantee meeting in Washington, DC.

6. The extent to which the applicant provides: (a) Letter(s) of commitment from the State, local public and private organizations/agencies, and any other source that will be contributing toward the applicant's non-Federal share of project costs; and (b) letter(s) of commitment stating the amount to be contributed and the form of the contribution (i.e., cash or in-kind). Note: Letter(s) of Commitment (encouraged) are not to be confused with Letter(s) of Support (encouraged) or with the Local Council's Letter of Designation (required) by an Entity of Local Government.

Evaluation 10 Points

Note: Applicant means the Local Council.

1. The extent to which the applicant: (a) Describes how the evaluation plan will demonstrate the effectiveness of its activities and services in addressing the needs identified under its needs and resources assessment; (b) demonstrates how the results or benefits identified for each objective will serve as standards for evaluating the achievement of objectives at the end of the project period (i.e., 17 months).

2. The extent to which the applicant's evaluation plan includes: (a) A process component that describes the activities of the project; (b) how the project will operate; (c) how well the design was followed; and (d) the extent to which it produced the expected results.

3. The extent to which the applicant demonstrates: (a) The relationships among the needs identified in the needs and resources assessment; (b) the activities/interventions proposed; and (c) anticipated results and benefits (e.g., a diagram (logic model) for demonstration purposes).

4. The extent to which the applicant's evaluation plan is: (a) Sound and appropriate to the activities/interventions implemented; and (b) demonstrates the extent to which program goals/objectives will be achieved.

5. The extent to which the applicant's evaluation plan reflects sensitivity to technical, logistical, cultural, and ethical issues that may arise and includes realistic strategies for the resolution of difficulties.

6. The extent to which the applicant's evaluation plan adequately protects human subjects, confidentiality of data, and consent procedures, as appropriate.

2. Review and Selection Process

A. Competitive Review Process

Each application will undergo an eligibility and conformance review by the Federal staff. Applications that pass the eligibility and conformance review will be evaluated on a competitive basis according to the specified evaluation criteria.

The competitive review will be conducted in the Washington, DC metropolitan area by panels of Federal and non-Federal experts knowledgeable in the areas of literacy, early learning, child care, early childhood education, and other relevant program areas.

Application review panels will assign a score to each application and identify its strengths and weaknesses.

B. Application Consideration and Selection

The Child Care Bureau will conduct an administrative review of the applications and the results of the competitive review panels and make recommendations for funding to the Commissioner, ACYF.

Subject to the recommendation of the Child Care Bureau's Associate Commissioner, the Commissioner, ACYF, will make the final selection of the applications to be funded. An application may be funded in whole or in part depending on: (1) The ranked order of applicants resulting from the competitive review; (2) staff review and consultations; (3) the combination of projects that best meets the Bureau's objectives; (4) the funds available; (5) the statutory requirement that reserves funds for Indian Tribes, Alaska Native Regional Corporations, and Native Hawaiian entities; and (6) other relevant considerations. The Commissioner may also elect not to fund any applicants with known management, fiscal, reporting, program, or other problems, which make it unlikely that they would be able to provide effective services.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental).

In addition, ELOA grantees are subject to the requirements in 45 CFR parts 16, 30, 46, 74, 75, 76, 80, 81, 84, 86, 91, 92, 93, and 100 and 37 CFR part 401.

Direct Federal grants, sub-award funds, or contracts under this Family Support Initiative 2005 program shall not be used to support inherently religious activities such as religious instruction, worship, or proselytization. Therefore, organizations must take steps to separate, in time or location, their inherently religious activities from the services funded under this Program. Regulations pertaining to the Equal Treatment For Faith-Based Organizations, which includes the prohibition against Federal funding of inherently religious activities, can be found at either 45 CFR 87.1 or the HHS Web site at: http://www.os.dhhs.gov/fbci/waisgate21.pdf.

3. Reporting Requirements

Programmatic Reports: Semi-Annually.

Financial Reports: Semi-Annually.

Grantees will be required to submit program progress and financial reports (SF 269) throughout the project period. Program progress and financial reports are due 30 days after the reporting period. In addition, final programmatic and financial reports are due 90 days after the close of the project period. The SF-269 can be found at the following URL: http://www.acf.hhs.gov/programs/ofs/forms.htm.

VII. Agency Contacts

Program Office Contact

Carol L. Gage, ELOA Project Officer, CCB/ACYF, 330 C Street, SW., Switzer Building, Room 2046, Washington, DC 20447. Phone: 202-690-6243. Fax: 202-690-5600. E-mail: cgage@acf.hhs.gov.

Grants Management Office Contact

Peter Thompson, Grants Officer, ACF, 330 C Street, SW., Room 2070, Washington, DC 20447. Phone: 202-401-4608. E-mail: pathompson@acf.hhs.gov.

VIII. Other Information

Please reference Section IV.3 for details about acknowledgement of received applications.

Electronic Link to Announcement: Copies of this Program Announcement may be downloaded from the Child Care Bureau's Web site at http://www.acf.hhs.gov/programs/ccb/ approximately five days after its publication in the Federal Register.

Notice: Beginning with FY 2006, the Administration for Children and Families (ACF) will no longer publish grant announcements in the Federal Register. Beginning October 1, 2005, applicants will be able to find a synopsis of all ACF grant opportunities and apply electronically for opportunities via: http://www.Grants.gov. Applicants will also be able to find the complete text of all ACF grant announcements on the ACF Web site located at: http://www.acf.hhs.gov/grants/index.html.

The FY 2006 President's Budget does not include or propose funding for the Child Care Bureau's Early Learning Opportunities Act discretionary grant program. However, because we are announcing the availability of one-time 17-month grants to be funded with already appropriated FY 2005 discretionary funds, the FY 2006 President's Budget proposal does not affect the availability of grant awards under this announcement.

Dated: June 8, 2005.
Susan Orr,
Acting Commissioner, Administration on Children, Youth and Families.

Appendix A—Sample Letter of Designation of the Local Council by an Entity of Local Government

Date

To Whom It May Concern:

Under the authority granted by the (Specify Source of Authority to Act on behalf of the Entity of Local Government), I/We hereby designate the (Insert Name of Local Council) as the eligible Local Council for the (Insert the name(s) of localities to be served by the Local Council (e.g., city(ies), county(ies), borough(s), etc.)) for the purposes of applying for a discretionary grant under the Early Learning Opportunities Act (ELOA) program. I/We also authorize the (Insert Name of Local Council) to develop and submit an application to the Administration on Children, Youth and Families, Child Care Bureau in response to the ELOA Funding Opportunity Number: HHS-2005-ACF-ACYF-LO-0028, and to administer the implementation of the project if funded.

As required under the statute governing ELOA, the (Insert Name of Local Council) includes: (A) representatives of local agencies that will be directly affected by early learning programs assisted under the ELOA and this announcement; (B) parents; (C) other individuals concerned with early learning issues in the locality, such as representatives of entities providing elementary education, child care resource and referral services, early learning opportunities, child care, and health services; and (D) other key community leaders.

The (Insert Name of Local Council) was responsible for preparing and submitting the enclosed application for the ELOA discretionary grant program.

Sincerely,

Signed and dated by an individual with authority to represent the entity of local government (e.g., mayor, city/county manager, city/county executive, city/county council, board of supervisors, select board, etc.)

Appendix B—Sample Letter of Designation of the Local Council and Identification of the Fiscal Agent by an Entity of Local Government

Date

To Whom It May Concern:

Under the authority granted by the (Specify Source of Authority to Act on behalf of the Entity of Local Government), I/We hereby designate the (Insert Name of Local Council) as the eligible Local Council for the (Insert the name(s) of localities to be served by the Local Council (e.g., city(ies), county(ies), borough(s), etc.)) for the purposes of the Early Learning Opportunities Act (ELOA) discretionary grant program. I/We also authorize the (Insert Name of Local Council) to develop and submit an application to the Administration on Children, Youth and Families, Child Care Bureau in response to the ELOA Funding Opportunity Number: HHS-2005-ACF-ACYF-LO-0028, and to administer the implementation of the project if funded.

I/We hereby authorize the (Insert Name of Fiscal Agent) to serve as the Fiscal Agent on behalf of the (Insert Name of Local Council) and the Fiscal Agent's Employer Identification Number (EIN) is: ____ and this EIN has been entered in Item 6 on the Application for Federal Assistance (SF-424).

As required under the statute governing ELOA, the (Insert Name of Local Council) includes: (A) Representatives of local agencies that will be directly affected by early learning programs assisted under the ELOA and this announcement; (B) parents; (C) other individuals concerned with early learning issues in the locality, such as representatives of entities providing elementary education, child care resource and referral services, early learning opportunities, child care, and health services; and (D) other key community leaders.

The (Insert Name of Local Council) was responsible for preparing and submitting the enclosed application for the ELOA discretionary grant program.

Sincerely,

Signed and dated by an individual with authority to represent the entity of local government (e.g., mayor, city/county manager, city/county executive, city/county council, board of supervisors, select board, etc.)

Appendix C—Sample Format for Providing Information on the Composition of the Local Council

Emerald County Local Council

Members name | Title | Role | Agency
Marsha Severn | Chair of Local Council | D | Emerald City Chamber of Commerce.
Michele Dixon | Director | C | Child Care Resource & Referral.
Mike Andrews | Foster Parent of a Young Child | B
Rev. P. Nelson | Director, Child & Family Services | A | Holy Trinity Church.
Patricia Lawson | Director | A | Happy Days Child Care Center.
Fr. Michael Bates | Child & Family Program Manager | D | Catholic Charities.
Angela Bauer | Director | A | St. James Head Start.
M. J. Anderson | Director | A | ABC Child Care Center.
Monica Presley | Director | C | Emerald County Health Dept.
L. M. Peterson | Superintendent | C | Emerald City Public Schools.
Peggy Davis | Family Child Care Provider | C
Sarah Curtis | Autism Consultant | C | Emerald City Public Schools.
Susan Meyers | Parent of Young Child | B
Susan LaPierre | President | A | Emerald County Community College.
Alberta Collins | Vice President | D | Emerald City United Way Services.
Frank Jimenez | County Manager | D | Emerald County.
Sean Red Cloud | Consultant | D | Lakota Community Services.
Christopher Potter | Parent of Young Child | B
Harriet Huggins | Director | C | Emerald County Social Services.
Isabella Flores | Director | D | La Puerta Fundacíon.
T. Rex Reid | President | D | Emerald City Bank.
Lionel Mejias | Director | A | Early Childhood Services, Inc.
Ameila Quigley | Program Parent | B | Parents as Teachers.
Amy Takmamura | Director | A | Emerald City Child Care Consortium.
Juana Garcia | Director, Special Education | A | Emerald City Public Schools.
Casey Brown | Parent of a Young Child | B
Margaret James | Managing Director | A | Community Child Care Center.
Stephen Cho | Parent of a Young Child | B
C. L. Madsen, M.D. | Pediatrician | C | Emerald City Primary Care Associates.

Legend

(Also see Section III. Additional Information on Eligibility.)

A = Representatives of local agencies that will be directly affected by early learning programs assisted under the ELOA and this announcement.

B = Parents.

C = Other individuals concerned with early learning issues in the locality, such as representatives of entities providing elementary education, child care resource and referral services, early learning opportunities, child care, and health services.

D = Other key community leaders.

Note: Members of Local Councils that are identified with categories other than the four categories above will not be considered as meeting the statutory eligibility requirements for the composition of the Local Council.

[FR Doc. 05-11754 Filed 6-14-05; 8:45 am]

BILLING CODE 4184-01-P